DEPARTMENT OF LABOR

Agency Information Collection Activities; Submission for OMB Review; Comment Request; Request for a Medical or Religious Exception or Delay to the COVID-19 Vaccination Requirement

AGENCY: Office of the Assistant Secretary for Administration and Management, Labor.

ACTION: Notice; request for comments.

SUMMARY: In compliance with the Paperwork Reduction Act of 1995 (PRA), the DOL is soliciting public comments regarding the proposed revision of this Office of the Assistant Secretary for Administration and Management (OASAM)-sponsored information collection for the authority to continue and revise the information collection request (ICR) titled, “Request for a Medical Exception or Delay to the COVID-19 Vaccination Requirement,” currently approved under OMB Control Number 1225-0092.

DATES: Consideration will be given to all written comments received by May 9, 2022.

ADDRESSES: A copy of this ICR with applicable supporting documentation, including a description of the likely respondents, proposed frequency of response, and estimated total burden, may be obtained free by contacting RARC Info at Rarc.Info@dol.gov.

Electronic submission: You may submit comments and attachments electronically at DOL_PRA_PUBLIC@dol.gov, identified by OMB Control Number 1225-0092.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Mara Blumenthal by telephone at 202-693-8538, or by email at Rarc.Info@dol.gov.

SUPPLEMENTARY INFORMATION: Consistent with guidance from the Centers for Disease Control and Prevention (CDC), guidance from the Safer Federal Workforce Task Force established pursuant to Executive Order 13991 of January 20, 2021, Protecting the Federal Workforce and Requiring Mask-Wearing, and Executive Order 14043 of September 9, 2021, Requiring Coronavirus Disease 2019 Vaccination for Federal Employees, the request for this collection of information is essential to implement DOL's health and safety measures regarding federal employee medical exemptions to the COVID-19 mandatory vaccinations. The Rehabilitation Act of 1973, as amended, requires Federal Agencies to provide reasonable accommodations to qualified employees with disabilities unless that reasonable accommodation would impose an undue hardship on the employee's Agency. See 29 U.S.C. 791; 29 CFR part 1614; see also 20 CFR part 1630 and Executive Order 13164 of July 26, 2000, Requiring Federal Agencies to Establish Procedures to Facilitate the Provision of Reasonable Accommodation. Section 2 of E.O. 14043 mandates that each agency “implement, to the extent consistent with applicable law, a program to require COVID-19 vaccination for all of its Federal employees, with exceptions only as required by law.” This medical exemption form is necessary for DOL to determine legal exemptions to the vaccine requirement under the Rehabilitation Act.

The Department of Labor is proposing to revise this ICR, which was approved in November 2021 under the Emergency Processing provisions of the PRA. The Department is requesting the same amount of burden in the currently approved ICR: 250 respondents, 10 minutes per response for a total of 42 hours. Additionally, the Department of Labor is proposing that student volunteers requesting a medical exception or delay to the COVID-19 Vaccination Requirement be required to complete this form. DOL estimates that there may be 100 student volunteers with the Department beginning this summer. While 40 volunteers are expected through the Secretary's formal program, many offices bring on volunteers through a variety of other methods. DOL is estimating that 10% may request a medical accommodation, for a total of 10 respondents.

The estimated time burden for a student volunteer to complete the form is 15 minutes. This is more burden than is placed on respondents in the currently approved collection that is limited to medical professionals providing information. Because the definition of `person' under the PRA excludes Federal employees operating within their professional capacity, it was only necessary in the currently approved collection to account for the time it takes the medical professional completing Part II of the form in assessing the burden when seeking the emergency PRA clearance. However, since student volunteers are not Federal employees, the time it takes student volunteers to complete the entire form must be accounted for in the burden assessment and requires approval by OMB. As a result, the Department of Labor is requesting approval for an additional 10 respondents, with an equal number of responses, and an additional 2.5 hours of time burden, for respective totals of 160 respondents with an equal number of responses and 44.5 annual burden hours for this form.

The Department of Labor is also proposing to add a new instrument to this ICR. DOL is proposing to add the form Request for a Religious Exception or Delay to the COVID-19 Vaccination Requirement. This religious exemption form is necessary for DOL to determine legal exemptions to the vaccine requirement from student volunteers under Title VII of the Civil Rights Act of 1964. As with the medical exemption noted above, the collection of this form from Federal employees does not require OMB approval. As student volunteers are not considered to be Federal employees, the Department must also account for the burden to complete the form to obtain approval from OMB in order to collect this information from student volunteers. Of the estimated 100 student volunteers the Department is anticipating this summer, DOL is estimating that 10% may request a religious accommodation, for a total of 10 respondents. The Department estimates that it will take respondents 15 minutes to fill out the form. Therefore, the Department of Labor is requesting approval for 10 respondents, with an equal number of responses, and 2.5 hours of time burden, for this form. Accordingly, the total estimated burden for this ICR is 270 respondents, with an equal number of responses, and 47 burden hours.

A Notice Regarding Injunctions

The vaccination requirement issued pursuant to E.O. 14043, is currently the subject of a nationwide preliminary injunction. While that injunction remains in place, DOL will not process requests for a medical or religious exceptions from the COVID-19 vaccination requirement pursuant to E.O. 14043. DOL will also not request the submission of any medical or religious information related to a request for an exception from the vaccination requirement pursuant to E.O. 14043 while the injunction remains in place. But DOL may nevertheless receive information regarding a medical exception. That is because, if DOL were to receive a request for an exception from the COVID-19 vaccination requirement pursuant to E.O. 14043 during the pendency of the injunction, DOL will accept the request, hold it in abeyance, and notify the volunteer who submitted the request that implementation and enforcement of the COVID-19 vaccination requirement pursuant to E.O. 14043 is currently enjoined and that an exception therefore is not necessary so long as the injunction is in place. In other words, during the pendency of the injunction, any information collection related to requests for medical or religious exceptions from the COVID-19 vaccination requirement pursuant to E.O. 14043 will not be undertaken to implement or enforce the COVID-19 vaccination requirement.

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-OASAM.

Type of Review: Revision.

Title of Collection: Request for a Medical or Religious Exception or Delay to the COVID-19 Vaccination Requirement.

OMB Control Number: 1225-0092.

Forms: Request for a Medical Exception or Delay to the COVID-19 Vaccination Requirement; Request for a Religious Exception or Delay to the COVID-19 Vaccination Requirement.

Affected Public: Individuals or Households.

Total Estimated Number of Respondents: 270.

Frequency: Once.

Total Estimated Number of Responses: 270.

Estimated Average Time per Response: Varies.

Total Estimated Annual Time Burden: 47 hours.

Total Estimated Annual Other Costs Burden: $0.

(Authority: 44 U.S.C. 3506(c)(2)(A))

Dated: March 1, 2022.
Milton Stewart,
Deputy Assistant Secretary for Operations.

[FR Doc. 2022-04864 Filed 3-7-22; 8:45 am]

BILLING CODE 4510-23-P